DEPARTMENT OF ENERGY

Federal Energy Regulatory Commission

[Project No.15259-000]

Lock+™ Hydro Friends Fund X, LLC; Notice of Preliminary Permit Application Accepted for Filing and Soliciting Comments, Motions To Intervene, and Competing Applications

On February 4, 2022, Lock+™ Hydro Friends Fund X, LLC filed an application for a preliminary permit, pursuant to section 4(f) of the Federal Power Act (FPA), proposing to study the feasibility of the Lock and Dam No. 24 Hydropower Project to be located on the Mississippi River and near the city of Clarksville, Missouri in Pike County and Calhoun County, Illinois. The sole purpose of a preliminary permit, if issued, is to grant the permit holder priority to file a license application during the permit term. A preliminary permit does not authorize the permit holder to perform any land-disturbing activities or otherwise enter upon lands or waters owned by others without the owners' express permission.

The proposed project would consist of the following: (1) a 250-foot-long by 40-foot-wide reinforced concrete headrace; (2) a 250-foot-long by 40-foot-wide by 50-foot-high submersible reinforced concrete powerhouse containing seven 10-megawatt (MW) turbines; (3) seven submersible 10-MW generators rated at 6.9 kilovolts (kV) or 13 kV; (4) 50-foot-wide by 250-foot-long draft tubes; (5) 40-foot-wide by 250-foot-long reinforced concrete tailrace; (6) a 25-foot by 50-foot switchyard; (7) a 3-mile-long, 6.9 (kV) or 13 kV transmission line connecting to an existing transmission system; and (8) appurtenant facilities. The estimated annual generation of the Lock and Dam No. 24 Hydropower would be 300,000 megawatt-hours.

Applicant Contact: Mr. Wayne Krouse; Lock+ Hydro Friends Fund X, LLC; 2901 4th Avenue South, #B 253, Birmingham, AL 35233; phone: (877) 556-6566 ext. 709.

FERC Contact: Michael Davis; phone: (202) 502-8339.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15259-000.

More information about this project, including a copy of the application, can be viewed or printed on the “eLibrary” link of Commission's website at http://www.ferc.gov/docs-filing/elibrary.asp. Enter the docket number (P-15259) in the docket number field to access the document. For assistance, contact FERC Online Support.

Dated: July 14, 2022.
Debbie-Anne A. Reese,
Deputy Secretary.

[FR Doc. 2022-15482 Filed 7-19-22; 8:45 am]

BILLING CODE 6717-01-P